DEPARTMENT OF LABOR

Employment and Training Administration

Amended Certification Regarding Eligibility to Apply for Worker Adjustment Assistance

TA-W-81,004

Pace American Enterprises, Inc., Mcgregor, Texas

TA-W-81,004A

Pace American Enterprises, Inc., Middlebury, Indiana

TA-W-81,004B

Pace American Enterprises, Inc., Fitzgerald, Georgia

TA-W-81,004C

Pace American Enterprises, Inc., Lebanon, Oregon

TA-W-81,004D

Pace American Enterprises, Inc., Hurricane, Utah

TA-W-81,004E

Pace American Enterprises, Inc., Bannockburn, Illinois

In accordance with Section 223 of the Trade Act of 1974, as amended (“Act”), 19 U.S.C. 2273, the Department of Labor (Department) issued a Certification of Eligibility to Apply for Worker Adjustment Assistance on December 21, 2012, applicable to workers and former workers of Pace American Enterprises, Inc., McGregor, Texas (TA-W-81,004); Pace American Enterprises, Inc., Middlebury, Indiana (TA-W-81,004A); Pace American Enterprises, Inc., Fitzgerald, Georgia (TA-W-81,004B); Pace American Enterprises, Inc., Lebanon, Oregon (TA-W-81,004C); and Pace American Enterprises, Inc., Hurricane, Utah (TA-W-81,004D). The Department's notice of determination was published in the Federal Register on January 12, 2012 (76 FR 1951). The workers are engaged in the production of cargo trailers.

At the request of a State Workforce Office, the Department reviewed the certification for workers of Pace American Enterprises, Inc. (subject firm). The State Workforce Office reports that some workers' wages were reported under Pace American Enterprises, Inc., Bannockburn, Illinois.

The Department has received confirmation that there was corporate office at Bannockburn, Illinois and that workers have been separated from that location as well as the other subject firm locations.

The amended notice applicable to TA-W-81,004 is hereby issued as follows:

All workers of Pace American Enterprises, Inc., McGregor, Texas (TA-W-81,004), Pace American Enterprises, Inc., Middlebury, Indiana (TA-W-81,004A), Pace American Enterprises, Inc., Fitzgerald, Georgia (TA-W-81,004B), Pace American Enterprises, Inc., Lebanon, Oregon (TA-W-81,004C), Pace American Enterprises, Inc., Hurricane, Utah (TA-W-81,004D), and Pace American Enterprises, Inc., Bannockburn, Illinois (TA-W-81,004E), who became totally or partially separated from employment on or after February 13, 2010, through December 21, 2013, and all workers in the group threatened with total or partial separation from employment on December 21, 2011 through December 21, 2012, are eligible to apply for adjustment assistance under Chapter 2 of Title II of the Trade Act of 1974, as amended.

Signed in Washington, DC this 8th day of May, 2012.
Del Min Amy Chen,
Certifying Officer, Office of Trade Adjustment Assistance.

[FR Doc. 2012-11813 Filed 5-15-12; 8:45 am]

BILLING CODE 4510-FN-P